DEPARTMENT OF HOUSING AND URBAN DEVELOPMENT

[Docket No. FR-4837-D-32]

Notice of Revocation and Redelegation of Authority for Indian and Alaska Native Programs

AGENCY: Office of the Assistant Secretary for Public and Indian Housing, HUD.

ACTION: Notice of revocation and redelegation of authority.

SUMMARY: This notice revokes prior redelegations of authority from the Assistant Secretary for Public and Indian Housing with respect to the administration of programs, under the authority of the Assistant Secretary, for Indians and Alaska Natives, to the Deputy Director for Headquarters Operations, and the Deputy for Field Operations, Office of Native American Programs (ONAP), within the Office of Public and Indian Housing, and then redelegates this authority to the Director of the Office of Grants Evaluation and the Director of the Office Grants Management, both within ONAP, Office of Public and Indian Housing.

EFFECTIVE DATE: July 18, 2003.

FOR FURTHER INFORMATION CONTACT: Edward Fagan, Office of Native American Programs, Office of Public and Indian Housing, Department of Housing and Urban Development, 451 Seventh Street, SW., Room 4126, Washington DC 20410-5000; telephone (202) 401-7914 (this is not a toll-free number). For those needing assistance, this number may be accessed through TTY by calling the toll-free Federal Information Relay Service at 1-800-877-8339.

SUPPLEMENTARY INFORMATION: In a notice published in the Federal Register on March 1, 1994 (59 FR 9765), the Assistant Secretary for Public and Indian Housing revoked all authority previously redelegated for the administration of HUD programs for Indians and Alaska Natives, under the jurisdiction of the Assistant Secretary for Public and Indian Housing, and then redelegated that authority to the Deputy Director for Headquarters Operations, and the Deputy for Field Operations, ONAP, within the Office of Public and Indian Housing.

This notice revokes all authority redelegated to the Deputy Director for Headquarters Operations and the Deputy for Field Operations, and redelegates the authority of the Assistant Secretary for Public and Indian Housing to administer HUD programs for Indians and Alaska Natives to the Director of the Office of Grants Evaluation and the Director of the Office of Grants Management, both offices within the Office of Public and Indian Housing.

Section A. Authority Redelegated

The Assistant Secretary for Public and Indian Housing redelegates to the Director of the Office of Grants Evaluation and the Director of the Office Grants Management, within the Office of Public and Indian Housing, all authority to administer HUD programs for Indians and Alaska Natives, under the jurisdiction of the Assistant Secretary.

Section B. Authority Excepted

The authority redelegated under section A does not include: (1) The authority to issue or waive regulations; (2) the authority to sue and be sued; or (3) the authority to effect remedies for noncompliance requiring notice and an opportunity for an administrative hearing.

Section C. Revocation and Supersedure

This redelegation revokes and supersedes all prior redelegations of authority from the Assistant Secretary for Public and Indian Housing with respect to the administration of Indian and Alaska Native programs, under the jurisdiction of the Assistant Secretary for Public and Indian Housing. Among the redelegations revoked, or revoked in part, are:

1. The redelegation of authority published on March 1, 1994 (59 FR 9765);

2. The redelegation of authority published on April 10, 1992 (57 FR 12516), with respect to Indian Housing Authorities only;

3. The redelegation of authority published on November 5, 1991 (56 FR 56524), with respect to Indian Housing Authorities only;

4. The redelegation of authority published on August 1, 1986 (51 FR 27604).

Authority: Section 7(d), Department of Housing and Urban Development Act (42 U.S.C. 3535(d)).

Dated: July 18, 2003.
Michael Liu,
Assistant Secretary for Public and Indian Housing.

[FR Doc. 03-22848 Filed 9-8-03; 8:45 am]

BILLING CODE 4210-33-P